FEDERAL DEPOSIT INSURANCE CORPORATION

12 CFR Part 338

RIN 3064-AF89

Fair Housing Rule, Consumer Protection in Sales of Insurance Rule; Technical Correction

AGENCY: Federal Deposit Insurance Corporation.

ACTION: Technical correction.

SUMMARY: The Federal Deposit Insurance Corporation (FDIC) is making a technical correction to the FDIC's Fair Housing Rule to reinsert a previous instruction regarding the Equal Housing Lending Poster.

DATES: Effective on June 23, 2023.

FOR FURTHER INFORMATION CONTACT: Alys V. Brown, Senior Attorney, Legal Division, alybrown@fdic.gov; Thaddeus J. King, Policy Analyst, Division of Depositor and Consumer Protection, 202-898-3541, thking@fdic.gov.

SUPPLEMENTARY INFORMATION:

Background

The Fair Housing Rule prohibits FDIC-supervised institutions from engaging in discriminatory advertising involving residential real estate-related transactions. The rule was last amended in August 2022 through a technical correction to reflect a reorganization and change in the name of the FDIC's former Consumer Response Center to the National Center for Consumer and Depositor Assistance and to add web addresses.¹

¹ 87 FR 48079 (Aug. 8, 2022); 87 FR 49767 (Aug. 12, 2022).

In February 2021, the FDIC amended part 338 to make it applicable to State savings associations, and revised § 338.4 by removing the mailing address for the former Consumer Response Center and replacing it with a bracketed instruction to insert on the Equal Housing Lending Poster the address for the former Consumer Response Center as stated on the FDIC's website at www.fdic.gov.² Historically, the required language for the Equal Housing Lending Poster included only the mailing address for the former Consumer Response Center, now renamed the National Center for Consumer and Depositor Assistance.

² See 86 FR 8088 (Feb. 3, 2021).

In August 2022, the FDIC updated 12 CFR part 338 through a technical correction to replace the reference to “Consumer Response Center” in the bracketed instruction with its new name, the “National Center for Consumer and Depositor Assistance,” and to add the web address for the National Center for Consumer and Depositor Assistance complaint portal. When updating 12 CFR part 338 in August 2022, the bracketed instruction to include the mailing address was inadvertently removed.

Therefore, the FDIC is making a further technical correction to 12 CFR part 338 to reinsert the bracketed instruction for FDIC-supervised institutions to insert on their Equal Housing Lending Posters the mailing address for the National Center for Consumer and Depositor Assistance as stated on the FDIC's website at www.fdic.gov. Including the instruction for FDIC-supervised banks to insert the mailing address, rather than listing the National Center for Consumer and Depositor Assistance's current mailing address, helps ensure that posters contain the Center's up-to-date mailing address. Banks (and the public) can find the National Center for Consumer and Depositor Assistance's current mailing address by visiting www.fdic.gov and searching for “National Center for Consumer and Depositor Assistance” with the website's search tool. Banks that experience difficulty in determining the appropriate mailing address for the National Center for Consumer and Depositor Assistance for inclusion on the Equal Housing Lending Poster may contact the FDIC for assistance.

List of Subjects in 12 CFR Part 338

Aged, Banks, Banking, Civil rights, Credit, Fair housing, Individuals with disabilities, Marital status discrimination, Mortgages, Religious discrimination, Reporting and recordkeeping requirements, Savings associations, Sex discrimination, Signs and symbols.

Authority and Issuance

For the reasons stated in the preamble, the FDIC amends 12 CFR part 338 as follows:

PART 338—FAIR HOUSING

1. The authority citation for part 338 continues to read:

Authority: 12 U.S.C. 1817, 1818, 1819, 1820(b), 2801 et seq.; 15 U.S.C. 1691 et seq.; 42 U.S.C. 3605, 3608; 12 CFR parts 1002, 1003; 24 CFR part 110.

2. Amend § 338.4 by revising paragraph (b) to read as follows:

§ 338.4 Fair housing poster.

* * * * *

(b) The Equal Housing Lender Poster shall be at least 11 by 14 inches in size and have the following text:

We Do Business in Accordance with Federal Fair Lending Laws.

UNDER THE FEDERAL FAIR HOUSING ACT, IT IS ILLEGAL, ON THE BASIS OF RACE, COLOR, NATIONAL ORIGIN, RELIGION, SEX, HANDICAP, OR FAMILIAL STATUS (HAVING CHILDREN UNDER THE AGE OF 18) TO:

• Deny a loan for the purpose of purchasing, constructing, improving, repairing or maintaining a dwelling or to deny any loan secured by a dwelling; or

• Discriminate in fixing the amount, interest rate, duration, application procedures, or other terms or conditions of such a loan or in appraising property.

IF YOU BELIEVE YOU HAVE BEEN DISCRIMINATED AGAINST, YOU SHOULD SEND A COMPLAINT TO:

Assistant Secretary for Fair Housing and Equal Opportunity, Department of Housing and Urban Development, Washington, DC 20410, for processing under the Federal Fair Housing Act;

AND TO:

Federal Deposit Insurance Corporation, National Center for Consumer and Depositor Assistance, [FDIC-supervised institution should insert mailing address for National Center for Consumer and Depositor Assistance found at www.fdic.gov], https://ask.fdic.gov/fdicinformationandsupportcenter, for processing under the FDIC Regulations.

UNDER THE EQUAL CREDIT OPPORTUNITY ACT, IT IS ILLEGAL TO DISCRIMINATE IN ANY CREDIT TRANSACTION:

• On the basis of race, color, national origin, religion, sex, marital status, or age;

• Because income is from public assistance; or

• Because a right has been exercised under the Consumer Credit Protection Act.

IF YOU BELIEVE YOU HAVE BEEN DISCRIMINATED AGAINST, YOU SHOULD SEND A COMPLAINT TO:

Federal Deposit Insurance Corporation, National Center for Consumer and Depositor Assistance, [FDIC-supervised institution should insert mailing address for National Center for Consumer and Depositor Assistance found at www.fdic.gov], https://ask.fdic.gov/fdicinformationandsupportcenter.

* * * * *

Federal Deposit Insurance Corporation.
Dated at Washington, DC, on April 18, 2023.
James P. Sheesley,
Assistant Executive Secretary.

[FR Doc. 2023-08609 Filed 4-21-23; 8:45 am]

BILLING CODE 6714-01-P